DEPARTMENT OF TRANSPORTATION

Federal Aviation Administration

14 CFR Part 71

[Airspace Docket No. 00-ANM-07]

Modification of Class E airspace, Wenatchee, WA

AGENCY: Federal Aviation Administration (FAA), DOT.

ACTION: Final rule.

SUMMARY: This action modifies the Wenatchee, WA, Class E airspace to remove the Fancher field airspace exclusion at the Panghorn Memorial Airport, Wenatchee, WA.

EFFECTIVE DATE: 0901 UTC, October 05, 2000.

FOR FURTHER INFORMATION CONTACT: Brian Durham, ANM-520.7, Federal Aviation Administration, Docket No. 00-ANM-07, 1601 Lind Avenue SW, Renton, Washington 98055-4056: telephone number: (425) 227-2527.

SUPPLEMENTARY INFORMATION:

History

On May 25, 2000, the FAA proposed to amend Title 14, Code of Federal Regulations, part 71 (14 CFR part 71) by modifying Class E airspace at Wenatchee, WA, to remove the Fancher Field airspace exclusion in the legal description for the Panghorn Memorial Airport, Wenatchee, WA (65 FR 33796). Fancher Field has been abandoned negating the requirement for its Class E2 airspace exclusion. This airspace modification would delete the airspace requirement for Fancher Field and correct the legal description for Wenatchee, WA. Interested parties were invited to participate in the rulemaking proceeding by submitting written comments on the proposal. No comments were received.

The Rule

This amendment to Title 14 Code of Federal Regulations, part 71 (14 CFR part 71) modifies Class E airspace at Wenatchee, WA, by removing the Fancher Field airspace exclusion in the legal description for the Panghorn Memorial Airport, Wenatchee, WA. Fancher Field has been abandoned negating the requirement for its Class E2 airspace exclusion. This airspace modification deletes the airspace requirement for Fancher Field and corrects the legal description for Wenatchee, WA. The FAA establishes Class E airspace where necessary to contain aircraft transitioning between the terminal and en route environments. This rule is designed to provide for the safe and efficient use of the navigable airspace and promote safe flight operations at the Wenatchee Airport.

The area will be depicted on aeronautical charts for pilot reference. The coordinates for this airspace docket are based on North American Datum 83. Class E airspace areas designated as surface areas, are published in Paragraph 6002, of FAA Order 7400.9G dated September 1, 1999, and effective September 16, 1999, which is incorporated by reference in 14 CFR 71.1. The Class E airspace designation listed in this document would be published subsequently in the Order.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 6002 Class E Airspace Designated as Surface Areas.

* * * * *

ANM WA E2 Wenatchee, WA

Wenatchee, Panghorn Memorial Airport, WA

(Lat. 47°23′55″ N, long. 120°12′24″ W)

Within a 4 mile radius of Panghorn Memorial Airport, and within 2.7 miles each side of the Wenatchee VOR/DME 124° radial extending from the 4-mile radius to 7 miles southeast of the VOR/DME.

* * * * *

Issued in Seattle, Washington, on July 27, 2000.
Daniel A. Boyle,
Acting Manager, Air Traffic Division, Northwest Mountain Region.

[FR Doc. 00-20273 Filed 8-9-00; 8:45 am]

BILLING CODE 4910-13-M